INTERNATIONAL TRADE COMMISSION

[Investigation Nos. 701-TA-487 and 731-TA-1197-1198 (Second Review)]

Steel Wire Garment Hangers From Taiwan and Vietnam; Determinations

On the basis of the record ¹ developed in the subject five-year reviews, the United States International Trade Commission (“Commission”) determines, pursuant to the Tariff Act of 1930 (“the Act”), that revocation of the antidumping duty orders on steel wire garment hangers from Taiwan and Vietnam and the countervailing duty order on steel wire garment hangers from Vietnam would be likely to lead to continuation or recurrence of material injury to an industry in the United States within a reasonably foreseeable time.

¹ The record is defined in § 207.2(f) of the Commission's Rules of Practice and Procedure (19 CFR 207.2(f)).

Background

The Commission instituted these reviews on April 3, 2023 (88 FR 19669) and determined on July 7, 2023 that it would conduct expedited reviews (88 FR 55068, August 14, 2023).

The Commission made these determinations pursuant to section 751(c) of the Act (19 U.S.C. 1675(c)). It completed and filed its determinations in these reviews on September 29, 2023. The views of the Commission are contained in USITC Publication 5464 (October 2023), entitled Steel Wire Garment Hangers from Taiwan and Vietnam: Investigation Nos. 701-TA-487 and 731-TA-1197-1198 (Second Review).

By order of the Commission.
Issued: September 29, 2023.
Lisa Barton,
Secretary to the Commission.

[FR Doc. 2023-21980 Filed 10-3-23; 8:45 am]

BILLING CODE 7020-02-P